DEPARTMENT OF THE INTERIOR

Fish and Wildlife Service

50 CFR Part 17

RIN 1018-AH93

Revisions to the Regulations Applicable to Permits Issued Under the Endangered Species Act

AGENCY: Fish and Wildlife Service, Interior.

ACTION: Proposed rule; reopening of comment period.

SUMMARY: We, the U.S. Fish and Wildlife Service, announce the reopening of the comment period for the proposed rule to revise our regulations pertaining to permits issued under the Endangered Species Act. Apparent confusion on the part of the public regarding the scope of this proposed rule has prompted us to reopen the comment period to allow for additional comment. Comments previously submitted need not be resubmitted, as they will be incorporated into the public record and considered in the preparation of the final rule.

DATES: Comments and information will be accepted from all interested parties until 5 p.m. on March 9, 2004. No comments will be accepted after this date.

ADDRESSES: (1) You may submit comments on the proposed rule to Chief, Division of Conservation and Classification, U.S. Fish and Wildlife Service, 4401 N. Fairfax Drive, Suite 420, Arlington, VA 22203; or (2) you may send comments by electronic mail (e-mail) to fw9comments@fws.gov. These comments should not contain any attachments, as they may be stripped from the e-mail. (See “Public Comments Solicited” section below.)

Comments received will be made available to the public and become part of the file for the proposal. You may examine comments and materials received during normal business hours at the above address in Arlington, VA, after the close of the comment period. You must make an appointment to examine these materials.

FOR FURTHER INFORMATION CONTACT: Chris Nolin, Division of Conservation and Classification, telephone 703/358-2171.

SUPPLEMENTARY INFORMATION:

Background

The U.S. Fish and Wildlife Service is reopening the comment period for the proposed rule titled “Revisions to the Regulations Applicable to Permits Issued Under the Endangered Species Act” (68 FR 53327, September 10, 2003) (“proposed rule”). The comment period for the proposed rule overlapped part of the comment period on a notice on a different subject, entitled “Draft Policy for Enhancement-of-Survival Permits for Foreign Species Listed Under the Endangered Species Act” (68 FR 49512, August 18, 2003) (“draft policy”). This overlap in public comment periods resulted in some apparent confusion among the public on the scope and intent of the proposed rule.

The principal purpose of the proposed rule was to more explicitly describe and accommodate the domestic application of different types of enhancement activities that can be permitted by the Service under authority of section 10(a)(1)(A) of the Act. The Service recognizes that its existing regulations at sections 17.22(a) and 17.32(a) do not clearly describe the full range of activities that enhance species survival, especially those activities which relate to domestic species. Accordingly, we proposed to revise sections 17.22(a) and 17.32(a) to clarify the range of actions that may be permitted. The proposed rule was also intended to clarify that these permits may also be issued in conjunction with Candidate Conservation Agreements with Assurances and Safe Harbor Agreements that contemplate intentional take.

The proposed rule was not intended to make any changes to the regulations for the purposes of administering the draft policy. The proposed rule does not affect or facilitate the procedures described in the draft policy notice, and the status of the proposed rule has no bearing on any subsequent action under the draft policy. At this time, we continue to review the comments received on the draft policy and will determine how to proceed on that policy upon completion of our review of those comments. This determination will be independent of any final action on the proposed rule.

Public Comments Solicited

We are soliciting written comments on the proposed rule from the public, other concerned governmental agencies, the scientific community, industry or any other interested party. Verbal comments will not be accepted. Comments previously submitted on the proposed rule need not be resubmitted, because they will be incorporated into the public record as part of this reopening of the comment period and will be fully considered in the final rule. It is our intent that any final action resulting from our proposed rule be as accurate as possible. As indicated above, comments on the draft policy are not solicited as part of the reopening of the comment period on the proposed rule; only comments addressing the proposed rule will be considered under this open comment period.

If you submit comments by electronic mail (e-mail) please submit them as an ASCII file and avoid the use of special characters, or any form of encryption. In addition, we request that you do not include any attachments as these may get accidentally stripped from your message during the review process. You must also include your name and address in your e-mail message. You will not receive a confirmation from the system.

Our practice is to make comments, including names and home addresses of respondents, available for public review during regular business hours. Individual respondents may request that we withhold their home addresses from the administrative record, which we will honor to the extent allowable by law. There also may be circumstances in which we would withhold from the administrative record a respondent's identity, as allowable by law. If you would like us to withhold your name and/or address, you must state this prominently at the beginning of your comment. However, we will not consider anonymous comments. We will make all submissions from organizations or businesses, and from individuals identifying themselves as representatives or officials of organizations or businesses, available for public inspection in their entirety. Comments and materials received will be available for public inspection, by appointment, during normal business hours at the above address.

Authority: 16 U.S.C. 1361-1407; 16 U.S.C. 1531-1544; 16 U.S.C. 4201-4245; Pub. L. 99-625, 100 Stat. 3500; unless otherwise noted.

Dated: February 13, 2004.
Paul Hoffman,
Acting Assistant Secretary for Fish and Wildlife and Parks.

[FR Doc. 04-3869 Filed 2-18-04; 4:57 pm]

BILLING CODE 4310-55-P